DEPARTMENT OF HEALTH AND HUMAN SERVICES

Administration for Children and Families

Proposed Information Collection Activity; Sexual Risk Avoidance Education (SRAE) National Evaluation Overarching Generic (New Collection)

AGENCY: Office of Planning, Research, and Evaluation, Administration for Children and Families, U.S. Department of Health and Human Services.

ACTION: Request for public comments.

SUMMARY: The Administration for Children and Families' (ACF) Office of Planning, Research, and Evaluation (OPRE) requests Office of Management and Budget (OMB) approval for an overarching generic clearance to collect data from programs delivered by Sexual Risk Avoidance Education (SRAE) grant recipients on behalf of the SRAE National Evaluation. The generic mechanism will allow ACF to rapidly respond to research and evaluation opportunities that would not otherwise be feasible under the timelines associated with the Paperwork Reduction Act of 1995. The opportunities may relate to innovative implementation strategies and program components in use by SRAE grant recipients as they arise, and in particular, for youth subpopulations served by grant recipients. The purpose of the data collections submitted under the generic will be to inform ACF programming by building evidence about what innovations work to improve programming and outcomes across the SRAE grant recipients and the youth they serve.

DATES: Comments due February 24, 2025. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: Under the proposed umbrella generic, OPRE intends to conduct research and evaluation of innovative implementation strategies and program components used by SRAE grant recipients and in particular, for youth subpopulations served by grant recipients. There is not an extensive evidence base on SRAE programming to inform SRAE grant recipients' implementation and program improvement efforts. To add to this limited body of evidence and to support ACF's administration of the SRAE grant program, the SRAE National Evaluation includes data collection to identify strategies and components that have the potential to improve the delivery and/or quality of SRAE programming and to understand better how to meet the needs of the range of youth served by the programs. As the evaluation team identifies strategies that are ready for evaluation, the work will need to begin quickly so that the learnings can be disseminated back to SRAE grant recipients within the period of performance. Due to the need for this rapid decision making, OPRE is seeking approval for a generic clearance to conduct this research. Potential data collection efforts include conducting interviews with SRAE program staff, including front-line facilitators working directly with youth; staff from partner organizations that work with SRAE programs; brief exit tickets following individual program sessions, focus groups, and surveys of youth participating in SRAE programs; session logs completed by program facilitators after individual program sessions; and analysis plan and report templates that grant recipients can use to disseminate their own evaluation findings.

Under this generic clearance, information is meant to inform ACF activities and may be incorporated into documents or presentations that are made public such as through conference presentations, websites, or social media. The following are some examples of ways in which we may share information resulting from these data collections: technical assistance (TA) plans, webinars, presentations, infographics, issue briefs/reports, evaluation specific reports, or other documents relevant to the field, such as federal leadership and staff, grant recipients, local implementing agencies, researchers, and/or training/TA providers. In sharing findings, we will describe the study methods and limitations regarding generalizability and as a basis for policy.

Following standard OMB requirements, OPRE will submit an individual request for each specific data collection activity under this generic clearance. Each request will include the individual instrument(s), a justification specific to the individual information collection, and any supplementary documents. Example instruments are available upon request.

Respondents: Staff and administrators of SRAE programs; staff from partner organizations; current or former participants in SRAE programs; and grant recipients conducting their own evaluations.

Annual Burden Estimates: A variety of instruments and platforms will be used to collect information from respondents and each individual request will vary by number of respondents and average time per response. The burden table below is illustrative to provide an estimated maximum level of burden for this overarching generic. While we will not exceed the total burden cap for this generic without requesting a change for updates, we may use more or less burden within each instrument type. Each individual request under the generic will provide information specific to the burden for that request.

Example instruments | Number of respondents (total over request period) | Number of responses per respondent (total over request period) | Avg. burden per response (in hours) | Total burden (in hours) | Annual burden (in hours)
Youth survey | 2,160 | 3 | 0.5 | 3,240 | 1,080
Administrator, staff, and partner interview topic guide | 144 | 1 | 1.25 | 180 | 60
Youth focus group topic guide | 120 | 1 | 1 | 120 | 40
Youth exit ticket | 2,160 | 15 | 0.03 | 972 | 324
Facilitator Log | 36 | 30 | 0.06 | 64.8 | 21.6
Analysis plan for local impact local evaluations | 10 | 1 | 8 | 80 | 26.67
Analysis plan for local descriptive evaluations | 10 | 1 | 8 | 80 | 26.67
Report template for local impact local evaluations | 10 | 1 | 32 | 320 | 106.67
Report template for local descriptive evaluations | 10 | 1 | 32 | 320 | 106.67

Estimated Total Annual Burden Hours: 1,792.28.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 710.

Mary C. Jones,
ACF/OPRE Certifying Officer.

[FR Doc. 2024-30713 Filed 12-23-24; 8:45 am]

BILLING CODE 4184-83-P